DEPARTMENT OF THE INTERIOR

Minerals Management Service

Agency Information Collection Activities: Submitted for Office of Management and Budget (OMB) Review; Comment Request

AGENCY: Minerals Management Service (MMS), Interior.

ACTION: Notice of a revision of a currently approved information collection (OMB Control Number 1010-0120).

SUMMARY: To comply with the Paperwork Reduction Act of 1995 (PRA), we are notifying the public that we have submitted to OMB an information collection request (ICR) to renew approval of the paperwork requirements in the regulations under 30 CFR parts 202, 206, 210, 212, 217, and 218. This notice also provides the public a second opportunity to comment on the paperwork burden of these regulatory requirements. We changed the title of this ICR to reflect OMB consolidation approval of solid mineral and geothermal ICRs. Those ICRs were titled:

• 1010-0074: 30 CFR Part 206—Product Valuation, Subpart J—Indian Coal (Forms MMS-4292, Coal Washing Allowance Report, and MMS-4293, Coal Transportation Allowance Report);

• 1010-0120: 30 CFR Part 206, Subpart F—Federal Coal and Subpart J—Indian Coal; Part 210, Subpart B—Oil, Gas, and OCS Sulfur—General, Subpart E—Solid Minerals, General, Subpart H—Geothermal Resources; Part 218, Subpart B—Oil and Gas, General, Subpart E—Solid Minerals—General (Form MMS-4430, Solid Minerals Production and Royalty Report); and

• 1010-0169: 30 CFR Parts 202, 206, 210, 217, and 218—Valuation of Geothermal Resources.

The title of this ICR is “30 CFR 202, 206, 210, 212, 217, and 218—Solid Minerals and Geothermal Collections.” Forms associated with this information collection are Forms MMS-4430, Solid Minerals Production and Royalty Report; MMS-4292, Coal Washing Allowance Report; and MMS-4293, Coal Transportation Allowance Report.

DATES: Submit written comments on or before November 16, 2007.

ADDRESSES: Submit written comments by either FAX (202) 395-6566 or e-mail (OIRA_Docket@omb.eop.gov) directly to the Office of Information and Regulatory Affairs, OMB, Attention: Desk Officer for the Department of the Interior (OMB Control Number 1010-0120).

Please also send a copy of your comments to MMS via e-mail at mrm.comments@mms.gov. Include the title of the information collection and the OMB control number in the “Attention” line of your comment. Also include your name and return address. If you do not receive a confirmation that we have received your e-mail, contact Ms. Gebhardt at (303) 231-3211.

You may also mail a copy of your comments to Sharron L. Gebhardt, Lead Regulatory Specialist, Minerals Management Service, Minerals Revenue Management, P.O. Box 25165, MS 302B2, Denver, Colorado 80225.

If you use an overnight courier service or wish to hand-deliver your comments, our courier address is Building 85, Room A-614, Denver Federal Center, West 6th Ave. and Kipling Blvd., Denver, Colorado 80225.

FOR FURTHER INFORMATION CONTACT: Sharron L. Gebhardt, telephone (303) 231-3211, fax (303) 231-3781, e-mail Sharron.Gebhardt@mms.gov. You may also contact Sharron Gebhardt to obtain, at no cost, copies of (1) the ICR, (2) any associated forms, and (3) regulations that require the subject collection of information.

SUPPLEMENTARY INFORMATION: Title: 30 CFR 202, 206, 210, 212, 217, and 218-Solid Minerals and Geothermal Collections.

OMB Control Number: 1010-0120.

Bureau Form Number: Forms MMS-4430, MMS-4292, and MMS-4293.

Abstract: The Secretary of the United States Department of the Interior (Secretary) is responsible for matters relevant to mineral resource development on Federal and Indian lands and the Outer Continental Shelf (OCS). The Secretary, under the Mineral Leasing Act (30 U.S.C. 1923) and the Outer Continental Shelf Lands Act (43 U.S.C. 1353), is responsible for managing the production of minerals from Federal and Indian lands and the OCS, collecting royalties from lessees who produce minerals, and distributing the funds collected in accordance with applicable laws. The Secretary also has a trust responsibility to manage Indian lands and seek advice and information from Indian beneficiaries. The MMS performs the royalty management functions and assists the Secretary in carrying out the Department's trust responsibility for Indian lands.

Minerals produced from Federal and Indian leases vary greatly in the nature of occurrence, production and processing methods, and markets served. Also, lease terms, statutory requirements, and regulations vary significantly among the different minerals.

When a company or an individual enters into a lease to explore, develop, produce, and dispose of minerals from Federal or Indian lands, that company or individual agrees to pay the lessor a share (royalty) of the value received from production from the leased lands. The lease creates a business relationship between the lessor and the lessee. The lessee is required to report various kinds of information to the lessor relative to the disposition of the leased minerals. Such information is similar to data reported to private and public mineral interest owners and is generally available within the records of the lessee or others involved in developing, transporting, processing, purchasing, or selling of such minerals. The information collected includes data necessary to ensure that the royalties are accurately valued and appropriately paid.

Applicable law citations pertaining to mineral leases on Federal and Indian lands include: 25 U.S.C. 396d, Chapter 12—Lease, Sale, or Surrender of Allotted or Unallotted Lands; 25 U.S.C. 2103, Chapter 23—Development of Tribal Mineral Resources; 30 U.S.C. 189, Chapter 3A—Leases and Prospecting Permits; 30 U.S.C. 359, Chapter 7—Lease of Mineral Deposits within Acquired Lands; 30 U.S.C. 1001, 1002, Chapter 23—Geothermal Steam and Associated Geothermal Resources; 43 U.S.C. 1334, Chapter 29—Submerged Lands, Subchapter III—Outer Continental Shelf Lands Act; Energy Policy Act of 2005; and Mineral Leasing Act of 1920.

Applicable Code of Federal Regulations (CFR) citations include 30 CFR parts 202, subpart H; 206, subparts F, H, and J; 210, subparts E and H; 212, subparts E and H; 217, subparts E, F, and G; and 218, subparts E and F.

The governing citations require the lessees, operators, or other directly involved persons to accurately submit minerals royalty and production data and provide additional reasonable information as defined by the Secretary regarding their production. This ICR provides for the collection of (1) solid minerals royalty and production information on the forms above and on other associated data formats such as sales summaries, facility data, sales contracts and amendments, and payment information; and (2) geothermal resources information on Form MMS-2014 (ICR 1010-0140; OMB approval expires November 30, 2009). The information collected (1) enables MMS to verify that revenue due the Federal Government is accurately reported and correctly paid under applicable laws, regulations, and lease terms; and (2) supports the fulfillment of our trust and financial and compliance requirements. It also enables MMS to timely disburse mineral revenues to the correct recipients. We encourage electronic submission by way of e-mail message attachments; however, hard-copy submissions are accepted.

Specific lease language varies. However, respondents agree by the lease terms to furnish statements providing the details of all solid minerals and geothermal operations conducted on a Federal or Indian lease, including the quantity and quality of all production from the lease at such times and in such form as the Secretary may prescribe.

The MMS, acting for the Secretary, uses the collected information to support the Compliance and Asset Management (CAM) and Financial Management (FM) processes, and to assure that royalties are reported timely and paid appropriately and are based upon correct product valuation. The MMS, as well as other Federal Government, state, and tribal entities, uses the collected information for audit purposes and for evaluation of the reasonableness of product valuation or of allowance claims submitted by lessees. The MMS provides the Bureau of Land Management (BLM) and the Bureau of Indian Affairs (BIA) access to this information. The BLM and BIA use this data to conduct production verification, ensure lease diligence, and monitor plant efficiencies, maximum recovery, and secondary product inventories. The determination of the appropriate product value or allowance rate directly affects the royalties due. Failure to collect such data would prevent the Secretary from accomplishing statutory and trust responsibilities.

The information we collect under this ICR is essential for the royalty valuation process. Not collecting this information would limit the Secretary's ability to discharge fiduciary duties and may also result in the inability to confirm the accurate royalty value.

Proprietary information submitted to MMS under this collection is protected. No items of a sensitive nature are collected. The requirement to submit Form MMS-4430 is mandatory. The requirement for producers of coal from Indian leases to submit Forms MMS-4292 and MMS-4293 is required to obtain benefits.

Frequency of Response: On occasion, annually, and/or monthly.

Estimated Number and Description of Respondents: 161 reporters.

Estimated Annual Reporting and Recordkeeping “Hour” Burden: 3,670 hours.

We revised this ICR to include reporting requirements from parts 206 and 212 citations that were overlooked in the previous renewal. We have adjusted the burden hours accordingly. We have not included in our estimates certain requirements performed in the normal course of business and considered usual and customary.

The following chart shows the estimated burden hours by CFR section and paragraph:

Respondents' Estimated Annual Burden Hours
Citation 30 CFR | Reporting & recordkeeping requirement | Hour burden | Average No. annual responses | Annual burden hours
Part 202—Royalties
Subpart H—Geothermal Resources
202.351 | Royalties on geothermal resources. (b)(3) Royalties on byproducts are due at the time the recovered byproduct is used, sold, or otherwise finally disposed of * * * | Hour burden covered under OMB Control Number 1010-0140 (expires November 30, 2009).
202.353 | Measurement standards for reporting and paying royalties and direct use fees (a) For geothermal resources used to generate electricity, you must report the quantity on which royalty is due on Form MMS-2014 * * * | Hour burden covered under OMB Control Number 1010-0140. See § 210.52.
| (b) For geothermal resources used in direct use processes, you must report the quantity on which a royalty or direct use fee is due on Form MMS-2014* * * |
| (c) For byproducts, you must report the quantity on which royalty is due on Form MMS-2014* * * |
| (d) For commercially demineralized water, you must report the quantity on which royalty is due on Form MMS-2014* * * |
| (e) * * * However, you must maintain quality measurements for audit purposes * * * | AUDIT PROCESS. See Note.
Part 206—Product Valuation
Subpart F—Federal Coal
206.253 (c) | Coal subject to royalties—general provisions | Hour burden covered under § 206.254.
| (c) * * * The lessee shall maintain accurate records to determine to which individual Federal lease coal in the waste pit or slurry pond should be allocated |
206.254 | Quality and quantity measurement standards for reporting and paying royalties | .4166 | 816 | 340
| * * * Coal quantity information shall be reported on appropriate forms required under 30 CFR part 216 and on the Solid Minerals Production and Royalty Report, Form MMS-4430, as required under 30 CFR part 210
206.257 | Valuation standards for ad valorem leases. | AUDIT PROCESS. See Note.
| (b)(1) * * * The lessee shall have the burden of demonstrating that its contract is arm's-length* * * |
| (b)(3) * * * When MMS determines that the value may be unreasonable, MMS will notify the lessee and give the lessee an opportunity to provide written information justifying the lessee's reported coal value |
| (b)(4) The MMS may require a lessee to certify that its arm's-length contract provisions include all of the consideration to be paid by the buyer, either directly or indirectly, for the coal production |
| (d)(1) Where the value is determined pursuant to paragraph (c) of this section, that value does not require MMS's prior approval. However, the lessee shall retain all data relevant to the determination of royalty value* * * | Hour burden covered under § 206.254.
| (d)(2) Any Federal lessee will make available upon request to the authorized MMS or State representatives, to the Inspector General of the Department of the Interior or other persons authorized to receive such information, arm's-length sales value and sales quantity data for like-quality coal sold, purchased, or otherwise obtained by the lessee from the area | AUDIT PROCESS. See Note.
| (d)(3) A lessee shall notify MMS if it has determined value pursuant to paragraphs (c)(2)(ii), (iii), (iv), or (v) of this section. * * * The letter shall identify the valuation method to be used and contain a brief description of the procedure to be followed. The notification required by this section is a one-time notification due no later than the month the lessee first reports royalties on the Form MMS-4430 * * * and each time there is a change* * * | 2 | 1 | 2
| (f) The lessee may request a value determination from MMS. In that event, the lessee shall propose to MMS a value determination method, and may use that method in determining value for royalty purposes until MMS issues its decision. The lessee shall submit all available data relevant to its proposal.* * * | 5 | 1 | 5
| (i) * * * Contract revisions or amendments shall be in writing and signed by all parties to an arm's-length contract, and may be retroactively applied to value for royalty purposes for a period not to exceed two years, unless MMS approves a longer period * * * | 2 | 1 | 2
206.259 | Determination of washing allowances. (a) Arm's-length contracts. (1) * * * The lessee shall have the burden of demonstrating that its contract is arm's-length* * * | AUDIT PROCESS. See Note.
| (a)(1) * * * the washing allowance shall be the reasonable actual costs incurred by the lessee for washing the coal * * * The lessee shall have the burden of demonstrating that its contract is arm's-length * * *. The lessee must claim a washing allowance by reporting it as a separate line entry on the Form MMS-4430 | .34 | 12 | 4
| (a)(3) * * * When MMS determines that the value of the washing may be unreasonable, MMS will notify the lessee and give the lessee an opportunity to provide written information justifying the lessee's washing costs | AUDIT PROCESS. See Note.
| (b) Non-arm's-length or no contract. (1) * * * the washing allowance will be based upon the lessee's reasonable actual costs * * *. The lessee must claim a washing allowance by reporting it as a separate line entry on the Form MMS-4430 * * * | .75 | 48 | 36
| (b) * * * The lessee must claim a washing allowance by reporting it as a separate line entry on the Form MMS-4430 * * * (2)(iv) A lessee may use either paragraph (b)(2)(iv)(A) or (B) of this section. After a lessee has elected to use either method for a wash plant, the lessee may not later elect to change to the other alternative without approval of the MMS | 1 | 1 | 1
| (b) * * * The lessee must claim a washing allowance by reporting it as a separate line entry on the Form MMS-4430 * * * (2)(iv)(A) To compute depreciation, the lessee may elect to use either a straight-line depreciation method based on the life of equipment or on the life of the reserves which the wash plant services, whichever is appropriate, or a unit of production method. After an election is made, the lessee may not change methods without MMS approval * * * | 1 | 1 | 1
| (c) Reporting requirements—(1) Arm's-length contracts. (i) The lessee must notify MMS of an allowance based on incurred costs by using a separate line entry on the Form MMS-4430 | Hour burden covered under § 210.201.
| (c)(1)(ii) The MMS may require that a lessee submit arm's-length washing contracts, and related documents * * * | AUDIT PROCESS. See Note.
| (c)(2) Non-arm's-length or no contract. (i) The lessee must notify MMS of an allowance based on the incurred costs by using a separate line entry on the Form MMS-4430 | Hour burden hours covered under § 210.201.
| (c)(2)(iii) Upon request by MMS, the lessee shall submit all data used to prepare the allowance deduction * * * | AUDIT PROCESS. See Note.
| (e) Adjustments * * *. (2) The lessee must submit a corrected Form MMS-4430 to reflect actual costs, together with any payment, in accordance with instructions provided by MMS | Hour burden covered under § 210.201.
206.262 | Determination of transportation allowances | AUDIT PROCESS. See Note.
| (a) Arm's-length contracts. (1) * * * The lessee shall have the burden of demonstrating that its contract is arm's-length * * * |
| (a)(1) * * * the transportation allowance shall be the reasonable, actual costs incurred by the lessee for transporting the coal * * * The lessee must claim a transportation allowance by reporting it as a separate line entry on the Form MMS-4430 | .33 | 240 | 80
| (a)(3) * * * When MMS determines that the value of the transportation may be unreasonable, MMS will notify the lessee and give the lessee an opportunity to provide written information justifying the lessee's transportation costs | AUDIT PROCESS. See Note.
| (b) Non-arm's-length or no contract—(1) * * * the transportation allowance will be based upon the lessee's reasonable actual costs * * *. The lessee must claim a transportation allowance by reporting it as a separate line entry on the Form MMS-4430 * * * | .75 | 24 | 18
| (b)(2)(iv) * * * After a lessee has elected to use either method for a transportation system, the lessee may not later elect to change to the other alternative without approval of the MMS | 1 | 1 | 1
| (b)(2)(iv)(A) * * * After an election is made, the lessee may not change methods without MMS approval * * * | 1 | 1 | 1
| (b)(3) A lessee may apply to MMS for exception from the requirement that it compute actual costs in accordance with paragraphs (b)(1) and (b)(2) of this section * * * | 1 | 1 | 1
| (c) Reporting requirements—(1) Arm's-length contracts. (i) The lessee must notify MMS of an allowance based on incurred costs by using a separate line entry on the Form MMS-4430 | Hour burden covered under § 210.201.
| (c)(1)(ii) The MMS may require that a lessee submit arm's-length transportation contracts, production agreements, operating agreements, and related documents * * * | AUDIT PROCESS. See Note.
| (c)(2) Non-arm's-length or no contract—(i) The lessee must notify MMS of an allowance based on the incurred costs by using a separate line entry on Form MMS-4430 | Hour burden covered under § 210.201.
| (c)(2)(iii) Upon request by MMS, the lessee shall submit all data used to prepare the allowance deduction * * * | AUDIT PROCESS. See Note.
| (e) Adjustments * * *. (2) The lessee must submit a corrected Form MMS-4430 to reflect actual costs, together with any payments, in accordance with instructions provided by MMS | Hour burden covered under § 210.201.
206.264 | In-situ and surface gasification and liquefaction operations | 1 | 1 | 1
| If an ad valorem Federal coal lease is developed by in-situ or surface gasification or liquefaction technology, the lessee shall propose the value of coal for royalty purposes to MMS. The MMS will review the lessee's proposal and issue a value determination. The lessee may use its proposed value until MMS issues a value determination |  |  |
206.265 | Value enhancement of marketable coal | 1 | 1 | 1
| If, prior to use, sale, or other disposition, the lessee enhances the value of coal after the coal has been placed in marketable condition in accordance with § 206.257(h) of this subpart, the lessee shall notify MMS that such processing is occurring or will occur | 1 | 1 | 1
Subpart H—Geothermal Resources
206.352 (b)(1) (ii) | How do I calculate the royalty due on geothermal resources used for commercial production or generation of electricity? | 1 | 1 | 1
| (b)(1) For Class I leases, you must determine the royalty on produced geothermal resources * * * |  |  |
| (ii) A royalty determined by any other reasonable method approved by MMS under § 206.364 of this subpart | 1 | 1 | 1
206.353 | How do I determine transmission deductions? | AUDIT PROCESS. See Note.
| (c)(2)(i)(A) Such purchase is necessary (d)(9) Any other directly allocable and attributable operating or maintenance expense that you can document |
| (e) Allowable maintenance expenses include: * * * (4) Other directly allocable and attributable maintenance expenses that you can document |
| (g) To compute costs associated with capital investment * * * After a lessee has elected to use either method, the lessee may not later elect to change to the other alternative without MMS approval | 1 | 1 | 1
| (h)(1) To compute depreciation, you must use a straight-line depreciation method * * * You may not depreciate equipment below a reasonable salvage value. | 1 | 1 | 1
| (m)(2) When actual cost information is available, you must amend your prior Form MMS-2014 reports to reflect actual transmission costs deductions for each month for which you reported and paid based on estimated transmission costs. You must pay any additional royalties due (together with interest computed under § 218.302). You are entitled to a credit for or refund of any overpaid royalties | Hour burden covered under OMB Control Number 1010-0140.
| (n) In conducting reviews and audits, MMS may require you to submit arm's-length transmission contracts, production agreements, operating agreements and related documents and all other data used to calculate the deduction. You must comply with any such requirements within the time MMS specifies. Recordkeeping requirements are found at part 212 of this chapter | AUDIT PROCESS. See Note.
206.354 | How do I determine generating deductions? | 1 | 1 | 1
| (b)(1)(ii) You must redetermine your generating cost rate annually * * * After you choose a deduction period, you may not later elect to use a different deduction period without MMS approval |  |  |
| (c)(2)(i) You may include a return on capital * * * if: | AUDIT PROCESS. See Note.
| (A) The purchase is necessary * * * |
| (d) Allowable operating expenses include: * * * (9) Any other directly allocable and attributable operating expense * * * |
| (e) Allowable maintenance expenses include: * * * (4) Other directly allocable and attributable maintenance expenses that you can document |
| (g) * * * After a lessee has elected to use either method, the lessee may not later elect to change to the other alternative without MMS approval | 1 | 1 | 1
| (h)(1) To compute depreciation, you must use a straight-line depreciation method based on the life of the geothermal project, usually the term of the electricity sales contract, or other depreciation period acceptable to MMS. You may not depreciate equipment below a reasonable salvage value | 1 | 1 | 1
| (m)(2) When actual cost information is available, you must amend your prior Form MMS-2014 reports to reflect actual generating cost deductions for each month for which you reported and paid based on estimated generating costs. You must pay any additional royalties due (together with interest computed under § 218.302)* * * | Hour burden covered under OMB Control Number 1010-0140.
| (n) In conducting reviews and audits, MMS may require you to submit arm's-length power plant contracts, production agreements, operating agreements, related documents and all other data used to calculate the deduction. You must comply with any such requirements within the time MMS specifies. Recordkeeping requirements are found at part 212 of this chapter. | AUDIT PROCESS. See Note.
206.356 | How do I calculate royalty or fees due on geothermal resources I use for direct use purposes? | 1 | 1 | 1
| (a) For Class I leases, you must determine the royalty due on geothermal resources * * *
| (1) The weighted average of the gross proceeds established in arm's-length contracts for the purchase of significant quantities of geothermal resources * * * In evaluating the acceptability of arm's-length contracts * * *
| (a)(2) * * * The efficiency factor of the alternative energy source will be * * * or * * * proposed by the lessee and approved MMS * * * . | 48 | 2 | 96
| (a)(3) A royalty determined by any other reasonable method approved by MMS * * * | 1 | 1 | 1
| (b)(3) * * * you must provide MMS data showing the amount of geothermal production in pounds or gallons of geothermal fluid to input into the fee schedule * * * | 1 | 1 | 1
| (c) For geothermal resources other than hot water, MMS will determine fees on a case-by-case basis | 1 | 1 | 1
206.357 | How do I calculate royalty due on byproducts? | 1 | 1 | 1
| (b)(3) Any other reasonable valuation method approved by MMS | 1 | 1 | 1
206.358 | What are byproduct transportation allowances? | Hour burden covered under OMB Control Number 1010-0140.
| (d) Reporting requirements. (1) You must use a discrete field on Form MMS-2014 to notify MMS of a transportation allowance |
| (d)(2) In conducting reviews and audits, MMS may require you to submit arm's-length transportation contracts * * * You must comply with any such requirements * * * Recordkeeping requirements are found at part 212 of this chapter | AUDIT PROCESS. See Note.
| (e) * * * If, after a review or audit, MMS determines that you have improperly determined a byproduct transportation allowance, you must pay any additional royalties due (plus interest computed under § 218.302) * * * . | AUDIT PROCESS. See Note.
206.359 | How do I determine byproduct transportation allowances? | AUDIT PROCESS See Note.
| (a)(1) * * * MMS may require you to determine the byproduct transportation allowance * * * |
| (a)(2) * * * MMS will notify you and give you an opportunity to provide written information justifying your transportation costs * * * |
| (c)(2)(i) You may include a return on capital * * * if: (A) The purchase is necessary * * * |
| (d) Allowable operating expenses include: * * * (9) Any other directly allocable and attributable operating expense that you can document * * * |
| (e) Allowable maintenance expenses include: * * * (4) Other directly allocable and attributable maintenance expenses that you can document* * * |
| (g) To compute costs associated with capital investment * * * the lessee may not later elect to change to the other alternative without MMS approval | 1 | 1 | 1
| (h)(1) To compute depreciation, you must use a straight-line depreciation method based on either the life of the equipment or the life of the geothermal project * * * After you choose the basis for depreciation, you may not change that basis without MMS approval * * * | 1 | 1 | 1
| (l)(2) When actual cost information is available, you must amend your prior Form MMS-2014 reports to reflect actual byproduct transportation cost deductions * * * You must pay any additional royalties due (together with interest computed under § 218.302) * * * | Hour burden covered under OMB Control Number 1010-0140.
206.360 | What records must I keep to support my calculations of royalty or fees under this subpart? | AUDIT PROCESS. See Note.
| * * * you must retain all data relevant to the determination of the royalty value or the fee you paid. Recordkeeping requirements are found at part 212 of this chapter (a) You must be able to show: (1) How you calculated * * * (2) How you complied * * * (b) Upon request, you must submit all data to MMS* * * |
206.361 | How will MMS determine whether my royalty or direct use fee payments are correct? | AUDIT PROCESS. See Note.* * *
| (a)(1) * * * The MMS may review and audit your data, and MMS will direct you to use a different measure |
| (a)(2) If MMS directs you to use a different royalty value, measure of gross proceeds, or fee, you must either pay any royalties or fees due (together with interest computed under § 218.302) | Hour burden covered under OMB Control Number 1010-0140.
| (b) * * * MMS may require you to increase the gross proceeds to reflect any additional consideration. * * * MMS may require you to use another valuation method. * * * MMS will notify you to give you an opportunity to provide written information justifying your gross proceeds* * * | AUDIT PROCESS. See Note.
| (c) For arm's-length sales, you have the burden of demonstrating that your contract is arm's length |
| (d) The MMS may require you to certify that the provisions in your sales contract include all of the consideration the buyer paid you * * * |
| (f)(2) Contract revisions or amendments you make must be in writing and signed by all parties to the contract | 1 | 1 | 1
206.364 | How do I request a value or gross proceeds determination? | 3 | 20 | 60
| (a) You may request a value determination from MMS * * * Your request must:
| (1) Be in writing;* * *
| (c) * * * (2) After the Assistant Secretary issues a determination, you must make any adjustments in royalty payments that follow from the determination and, if you owe additional royalties, pay the royalties owed together with late payment interest computed under § 218.302 | Hour burden covered under OMB Control Number 1010-0140.
| (d)(2) If you receive an order requiring you to pay royalty on the same basis as the determination, you may appeal that order under 30 CFR part 290 subpart B | Hour burden covered under OMB Control Number 1010-0122.
206.366 | What is the nominal fee that a State, tribal, or local government lessee must pay for the use of geothermal resources? | Hour burden covered under OMB Control Number 1010-0140.
| If a State, tribal, or local government lessee uses a geothermal resource * * * lessee must pay a nominal fee * * * |
Subpart J—Indian Coal
206.452(c) | Coal subject to royalties—general provisions | Hour burden covered under § 206.456(d)(1).
| (c) * * * The lessee shall maintain accurate records to determine to which individual Indian lease coal in the waste pit or slurry pond should be allocated * * * |
206.453 | Quality and quantity measurement standards for reporting and paying royalties | Hour burden covered under § 206.456(d)(1).
| * * * Coal quantity information shall be reported on appropriate forms required under 30 CFR part 216 and on the Solid Minerals Production and Royalty Report, Form MMS-4430, as required under 30 CFR part 210 |
206.456 | Valuation standards for ad valorem leases | AUDIT PROCESS. See Note.
| (b)(1) * * * The lessee shall have the burden of demonstrating that its contract is arm's-length * * * |
| (b)(3) * * * When MMS determines that the value may be unreasonable, MMS will notify the lessee and give the lessee an opportunity to provide written information justifying the lessee's reported coal value |
| (b)(4) MMS may require a lessee to certify that its arm's-length contract provisions include all of the consideration to be paid by the buyer, either directly or indirectly, for the coal production |
| (d)(1) Where the value is determined pursuant to paragraph (c) of this section, that value does not require MMS' prior approval. However, the lessee shall retain all data relevant to the determination of royalty value * * * | .42 | 48 | 20
| (d)(2) An Indian lessee will make available upon request to the authorized MMS or Indian representatives, or to the Inspector General of the Department of the Interior or other persons authorized to receive such information, arm's-length sales and sales quantity data for like-quality coal sold, purchased, or otherwise obtained by the lessee from the area | AUDIT PROCESS. See Note.
| (d)(3) A lessee shall notify MMS if it has determined value pursuant to paragraphs (c)(2)(ii), (c)(2)(iii), (c)(2)(iv), or (c)(2)(v) of this section * * * . The letter shall identify the valuation method to be used and contain a brief description of the procedure to be followed * * * | 1 | 1 | 1
| (f) The lessee may request a value determination from MMS. In that event, the lessee shall propose to MMS a value determination method, and may use that method in determining value for royalty purposes until MMS issues its decision. The lessee shall submit all available data relevant to its proposal * * * | 1 | 1 | 1
| (i) * * * Contract revisions or amendments shall be in writing and signed by all parties to an arm's-length contract, and may be retroactively applied to value for royalty purposes for a period not to exceed two years, unless MMS approves a longer period * * * | 1 | 1 | 1
206.457(b) | Washing allowances—general | Hour burden covered under § 218.201(b).
| (b) If MMS determines that a lessee has improperly determined a washing allowance authorized by this section, then the lessee shall be liable for any additional royalties, plus interest * * * |
206.458 | Determination of washing allowances. | 2 | 1 | 2
| (a) Arm's-length contracts. (1) * * * the washing allowance shall be the reasonable actual costs incurred by the lessee for washing the coal * * * However, before any deduction may be taken, the lessee must submit a completed page one of Form MMS-4292, Coal Washing Allowance Report, in accordance with paragraph (c)(1) of this section. A washing allowance may be claimed retroactively for a period of not more than 3 months prior to the first day of the month that Form MMS-4292 is filed with MMS, unless MMS approves a longer period upon a showing of good cause by the lessee
| (a)(3) * * * When MMS determines that the value of the washing may be unreasonable, MMS will notify the lessee and give the lessee an opportunity to provide written information justifying the lessee's washing costs | AUDIT PROCESS, see Note.
| (b) Non-arm's-length or no contract. (1) * * * the washing allowance will be based upon the lessee's reasonable actual costs * * *. However, before any estimated or actual deduction may be taken, the lessee must submit a completed Form MMS-4292 in accordance with paragraph (c)(2) of this section. A washing allowance may be claimed retroactively for a period of not more than 3 months prior to the first day of the month that Form MMS-4292 is filed with MMS, unless MMS approves a longer period upon a showing of good cause by the lessee * * * | Hour burden covered under § 206.458(a)(1).
| (b) * * * the lessee must submit a completed Form MMS-4292 * * * (2)(iv) * * * After a lessee has elected to use either method for a wash plant, the lessee may not later elect to change to the other alternative without approval of MMS | 1 | 1 | 1
| (b) * * * the lessee must submit a completed Form MMS-4292 * * *. (2)(iv)(A) To compute depreciation, the lessee may elect to use either a straight-line depreciation method based on the life of equipment or on the life of the reserves which the wash plant services, whichever is appropriate, or a unit of production method. After an election is made, the lessee may not change methods without MMS approval * * * | 1 | 1 | 1
| (c) Reporting requirements. (1) Arm's-length contracts. (i) With the exception of those washing allowances specified in paragraphs (c)(1)(v) and (c)(1)(vi) of this section, the lessee shall submit page one of the initial Form MMS-4292 prior to, or at the same time, as the washing allowance determined pursuant to an arm's-length contract is reported on Form MMS-4430, Solid Minerals Production and Royalty Report * * * | Hour burden covered under § 206.458(a)(1).
| (c)(1)(iii) After the initial reporting period and for succeeding reporting periods, lessees must submit page one of Form MMS-4292 within 3 months after the end of the calendar year, or after the applicable contract or rate terminates or is modified or amended, whichever is earlier, unless MMS approves a longer period (during which period the lessee shall continue to use the allowance from the previous reporting period) |
| (c)(1)(iv) MMS may require that a lessee submit arm's-length washing contracts and related documents * * * | AUDIT PROCESS. See Note.
| (c)(2) Non-arm's-length or no contract. (i) With the exception of those washing allowances specified in paragraphs (c)(2)(v) and (c)(2)(vii) of this section, the lessee shall submit an initial Form MMS-4292 prior to, or at the same time as, the washing allowance determined pursuant to a non-arm's-length contract or no contract situation is reported on Form MMS-4430, Solid Minerals Production and Royalty Report * * * | Hour burden covered under § 206.458(a)(1).
| (c)(2)(iii) For calendar-year reporting periods succeeding the initial reporting period, the lessee shall submit a completed Form MMS-4292 containing the actual costs for the previous reporting period. If coal washing is continuing, the lessee shall include on Form MMS-4292 its estimated costs for the next calendar year * * *. Form MMS-4292 must be received by MMS within 3 months after the end of the previous reporting period, unless MMS approves a longer period (during which period the lessee shall continue to use the allowance from the previous reporting period). | Hour burden covered under § 206.458(a)(1).
| (c)(2)(vi) Upon request by MMS, the lessee shall submit all data used by the lessee to prepare its Forms MMS-4292 * * * | AUDIT PROCESS. See Note.
| (c)(4) Washing allowances must be reported as a separate line on the Form MMS-4430, unless MMS approves a different reporting procedure | Hour burden covered under § 210.201.
| (e) Adjustments * * *. (2) The lessee must submit a corrected Form MMS-4430 to reflect actual costs, together with any payment, in accordance with instructions provided by MMS |
206.460(d) | Transportation allowances—general | Hour burden covered under § 218.201(b).
| (d) If * * * MMS determines that a lessee has improperly determined a transportation allowance authorized by this section, then the lessee shall pay any additional royalties, plus interest |
206.461 | Determination of transportation allowances | 2 | 1 | 2
| (a) Arm's-length contracts. (1) * * * the transportation allowance shall be the reasonable, actual costs incurred by the lessee for transporting the coal * * * However, before any deduction may be taken, the lessee must submit a completed page one of Form MMS-4293, Coal Transportation Allowance Report, in accordance with paragraph (c)(1) of this section. A transportation allowance may be claimed retroactively for a period of not more than 3 months prior to the first day of the month that Form MMS-4293 is filed with MMS, unless MMS approves a longer period upon a showing of good cause by the lessee
| (a) Arm's-length contracts * * *. (3) When MMS determines that the value of the transportation may be unreasonable, MMS will notify the lessee and give the lessee an opportunity to provide written information justifying the lessee's transportation costs | AUDIT PROCESS. See Note.
| (b) Non-arm's-length or no contract. (1) * * * the transportation allowance will be based upon the lessee's reasonable actual costs | Hour burden covered under § 206.461(a)(1).
| * * * However, before any estimated or actual deduction may be taken, the lessee must submit a completed Form MMS-4293 in accordance with paragraph (c)(2) of this section. A transportation allowance may be claimed retroactively for a period of not more than 3 months prior to the first day of the month that Form MMS-4293 is filed with MMS, unless MMS approves a longer period upon a showing of good cause by the lessee * * * |
| (b) * * * the lessee must submit a completed Form MMS-4293 * * * (2)(iv) * * * After a lessee has elected to use either method for a transportation system, the lessee may not later elect to change to the other alternative without approval of MMS | 1 | 1 | 1
| (b) * * * the lessee must submit a completed Form MMS-4293 * * * (2)(iv)(A) To compute depreciation, the lessee may elect to use either a straight-line depreciation method based on the life of equipment or on the life of the reserves which the transportation system services, whichever is appropriate, or a unit of production method. After an election is made, the lessee may not change methods without MMS approval | 1 | 1 | 1
| (b) * * * the lessee must submit a completed Form MMS-4293 * * * (3) A lessee may apply to MMS for exception from the requirement that it compute actual costs in accordance with paragraphs (b)(1) and (b)(2) of this section * * * | 1 | 1 | 1
| (c) Reporting requirements. (1) Arm's-length contracts. (i) With the exception of those transportation allowances specified in paragraphs (c)(1)(v) and (c)(1)(vi) of this section, the lessee shall submit page one of the initial Form MMS-4293 prior to, or at the same time as, the transportation allowance determined pursuant to an arm's-length contract is reported on Form MMS-4430, Solid Minerals Production and Royalty Report | Hour burden covered under § 206.461(a)(1).
| (c)(1)(iii) After the initial reporting period and for succeeding reporting periods, lessees must submit page one of Form MMS-4293 within 3 months after the end of the calendar year, or after the applicable contract or rate terminates or is modified or amended, whichever is earlier, unless MMS approves a longer period (during which period the lessee shall continue to use the allowance from the previous reporting period). Lessees may request special reporting procedures in unique allowance reporting situations, such as those related to spot sales |
| (c)(1)(iv) MMS may require that a lessee submit arm's-length transportation contracts, production agreements, operating agreements, and related documents | AUDIT PROCESS. See Note.
| (c)(2) Non-arm's-length or no contract. (i) With the exception of those transportation allowances specified in paragraphs (c)(2)(v) and (c)(2)(vii) of this section, the lessee shall submit an initial Form MMS-4293 prior to, or at the same time as, the transportation allowance determined pursuant to a non-arm's-length contract or no contract situation is reported on Form MMS-4430, Solid Minerals Production and Royalty Report * * * | Hour burden covered under § 206.461(a)(1).
| (c)(2)(iii) For calendar-year reporting periods succeeding the initial reporting period, the lessee shall submit a completed Form MMS-4293 containing the actual costs for the previous reporting period * * * Form MMS-4293 must be received by MMS within 3 months after the end of the previous reporting period, unless MMS approves a longer period (during which period the lessee shall continue to use the allowance from the previous reporting period) |
| (c)(2)(vi) Upon request by MMS, the lessee shall submit all data used to prepare its Form MMS-4293 * * * | AUDIT PROCESS. See Note.
| (c)(4) Transportation allowances must be reported as a separate line item on Form MMS-4430, unless MMS approves a different reporting procedure | Hour burden covered under § 210.201.
| (e) Adjustments * * * (2) The lessee must submit a corrected Form MMS-4430 to reflect actual costs, together with any payment, in accordance with instructions provided by MMS |
206.463 | In-situ and surface gasification and liquefaction operations | 1 | 1 | 1
| If an ad valorem Federal coal lease is developed by in-situ or surface gasification or liquefaction technology, the lessee shall propose the value of coal for royalty purposes to MMS * * *
206.464 | Value enhancement of marketable coal | 1 | 1 | 1
| If, prior to use, sale, or other disposition, the lessee enhances the value of coal after the coal has been placed in marketable condition in accordance with § 206.456(h) of this subpart, the lessee shall notify MMS that such processing is occurring or will occur * * *
Part 210—Forms and Reports
Subpart E—Solid Minerals, General
210.201 (a)(1) | How do I submit Form MMS-4430, Solid Minerals Production and Royalty Report? | .75 | 1,668 | 1,251
| (a) What to submit. (1) You must submit a completed Form MMS-4430 for * * *
210.202 (a)(1) and (c)(1) | How do I submit sales summaries? (a) What to submit. (1) You must submit sales summaries for all coal and other solid minerals produced from Federal and Indian leases and for any remote storage site from which you sell Federal or Indian solid minerals * * * | .50 | 1,140 | 570
| (c) How to submit. (1) You should provide the sales summary data via electronic mail where possible. We will provide instructions and the proper email address for these submissions
210.203 (a) | How do I submit sales contracts? | 1 | 30 | 30
| (a) What to submit. You must submit sales contracts, agreements, and contract amendments for the sale of all coal and other solid minerals produced from Federal and Indian leases with ad valorem royalty terms
210.204 (a)(1) | How do I submit facility data? | .25 | 360 | 90
| (a) What to submit. (1) You must submit facility data if you operate a wash plant, refining, ore concentration, or other processing facility for any coal, sodium, potassium, metals, or other solid minerals produced from Federal or Indian leases with ad valorem royalty terms * * *
210.205 | Will I need to submit additional documents or evidence to MMS? | AUDIT PROCESS. See Note.
| (a) Federal and Indian lease terms allow us to request detailed statements, documents, or other evidence necessary to verify compliance * * * |
| (b) We will request this additional information as we need it * * * |
Subpart H—Geothermal Resources
210.351 | Required recordkeeping | Hour burden covered under OMB Control Number 1010-0140.
| * * * [Geothermal] Records may be maintained on microfilm, microfiche, or other recorded media that are easily reproducible and readable * * * |
210.352 | Special forms and reports. [geothermal] | 1 | 1 | 1
| The MMS may require submission of additional information on special forms or reports * * *
210.353 | Monthly report of sales and royalty. A completed Report of Sales and Royalty Remittance (Form MMS-2014) must be submitted each month once sales or utilization of [geothermal] production occur * * * | Hour burden covered under OMB Control Number 1010-0140.
Part 212—Records and Forms Maintenance
Subpart E—Solid Minerals—General
212.200 (a) | Maintenance of and access to records | .25 | 4,064 | 1,016
| (a) All records pertaining to Federal and Indian solid minerals leases shall be maintained by a lessee, operator, revenue payor, or other person for 6 years after the records are generated unless the record holder is notified, in writing, that records must be maintained for a longer period. When an audit or investigation is underway, records shall be maintained until the record holder is released by written notice of the obligation to maintain records
Subpart H—Geothermal Resources
212.351 | Required recordkeeping and reports (a) Records. Each lessee, operator, revenue payor, or other person shall make and retain accurate and complete records necessary to demonstrate that payments of royalties, rentals, and other amounts due under Federal geothermal leases are in compliance with laws, lease terms, regulations, and orders. Records covered by this section include those specified by lease terms, notices, and orders * * * | Hour burden covered under OMB Control Numbers 1010-0140 (for Form MMS-2014) and 1010-0139 (for Form MMS-4054).
| (b) Period for keeping records. All records pertaining to Federal geothermal leases shall be maintained by a lessee, operator, revenue payor, or other person for 6 years after the records are generated unless the recordholder is notified in writing, before the expiration of that 6-year period that records must be maintained for a longer period for purposes of audit or investigation. When an audit or investigation is underway, records shall be maintained until the recordholder is released by written notice of the obligation to maintain records | Hour burden covered under OMB Control Numbers 1010-0140 (for Form MMS-2014) and 1010-0139 (for Form MMS-4054).
Part 217—Audits and Inspections
Subpart E—Coal
217.200 | Audits | AUDIT PROCESS. See Note.
| An audit of the accounts and books of operators/lessees for the purpose of determining compliance with Federal lease terms relating to Federal royalties may be required * * * The operator/lessee shall furnish, free of charge, duplicate copies of audit reports that express opinions on such compliance to the Associate Director for Minerals Revenue Management * * * |
Subpart F—Other Solid Minerals
217.250 | Audits | AUDIT PROCESS. See Note
| An audit of the lessee's accounts and books may be made annually * * * The lessee shall furnish free of cost duplicate copies of such annual or other audits * * * |
Subpart G—Geothermal Resources
217.300 | Audits or review of records | AUDIT PROCESS. See Note.
| The Secretary, or his/her authorized representative, will initiate and conduct audits or reviews relating * * * Audits or reviews will also relate to compliance * * * All audits or reviews will be conducted in accordance with * * * |
Part 218—Collection of Royalties, Rentals, Bonuses, and Other Monies
Due the Federal Government and Credits and Incentives Due Lessees
Subpart B—Oil and Gas, General
218.57(a)(2) and (b)(3)(i) | Providing information and claiming rewards | 1 | 1 | 1
| (a) General * * * (2) If a person has any information he or she believes would be valuable to MMS, that person (“informant”) should submit the information in writing, in the form of a letter * * *
| (b) Claim for reward * * * (3) To file a claim for reward the informant must: (i) Notify the Director, MMS * * * that he/she is claiming a reward
Subpart E—Solid Minerals—General
218.201(b) | Method of payment | .0055 | 1,368 | 8
| You must tender all payments * * * except as follows: * * * (b) For Form MMS-4430 payments, include both your customer identification and your customer document identification numbers on your payment document * * *
218.203(b) | Recoupment of overpayments on Indian mineral leases | 1 | 1 | 1
| (a) * * * a payor may recoup the overpayment through a recoupment on Form MMS-4430 against the current month's royalties * * *
| (b) With written permission authorized by tribal statute or resolution, a payor may recoup an overpayment against royalties or other revenues owed in that month under other leases for which that tribe is the lessor. A copy of the tribe's written permission must be furnished to MMS * * * [following] instructions * * *
Subpart F—Geothermal Resources
218.300 | Payment of royalties, rentals, and deferred bonuses * * * the lessee shall submit all rental and deferred bonus payments when due and shall pay in value all royalties in the amount determined by MMS to be due | Hour burden covered under OMB Control Number 1010-0140.
218.301 | Method of payment The payor shall tender all payments * * * | Hour burden covered under OMB Control Number 1010-0140.
218.304 | May I credit rental towards direct use fees? * * * You must pay the direct use fees in addition to the annual rental due | Hour burden covered under OMB Control Number 1010-0140.
218.305 | How do I pay advanced royalties I owe under BLM regulations? If you pay advanced royalties under 43 CFR 3212.15(a)(1) to retain your lease: (a) You must pay an advanced royalty monthly equal to the average monthly royalty you paid under 30 CFR part 206, subpart H * * * | Hour burden covered under OMB Control Number 1010-0140.
218.306 | May I receive a credit against production royalties for in-kind deliveries of electricity I provide under contract to a state or county government? (a) You may receive a credit against royalties * * * if: * * * (2) The MMS approves in advance your contract * * * | 4 | 1 | 4
| (b) * * * You must pay in money any royalty amount that is not offset by the credit allowed under this section * * * | Hour burden covered under OMB Control Number 1010-0140.
Total Burden | 9,880 | 3,670
Note: AUDIT PROCESS—The Office of Regulatory Affairs determined that the audit process is exempt from the Paperwork Reduction Act of 1995 because MMS staff asks non-standard questions to resolve exceptions.

Estimated Annual Reporting and Recordkeeping “Non-hour Cost” Burden: We have identified no “non-hour cost” burden associated with the collection of information.

Public Disclosure Statement: The PRA (44 U.S.C. 3501 et seq.) provides that an agency may not conduct or sponsor, and a person is not required to respond to, a collection of information unless it displays a currently valid OMB control number.

Comments: Section 3506(c)(2)(A) of the PRA requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, we published a notice in the Federal Register on March 7, 2007 (72 FR 10244), announcing that we would submit this ICR to OMB for approval. The notice provided the required 60-day comment period. We received no comments in response to the notice.

If you wish to comment in response to this notice, you may send your comments to the offices listed under the ADDRESSES section of this notice. The OMB has up to 60 days to approve or disapprove the information collection but may respond after 30 days. Therefore, to ensure maximum consideration, OMB should receive public comments by November 16, 2007.

Public Comment Policy: We will post all comments in response to this notice on our Web site at http://www.mrm.mms.gov/Laws_R_D/InfoColl/InfoColCom.htm. We will also make copies of the comments available for public review, including names and addresses of respondents, during regular business hours at our offices in Lakewood, Colorado. Before including your address, phone number, e-mail address, or other personal identifying information in your comment, you should be aware that your entire comment—including your personal identifying information—may be made publicly available at any time. While you can ask us in your comment to withhold your personal identifying information from public view, we cannot guarantee that we will be able to do so.

MMS Information Collection Clearance Officer: Arlene Bajusz (202) 208-7744.

Dated: October 11, 2007.
Richard Adamski,
Acting Associate Director for Minerals Revenue Management.

[FR Doc. E7-20424 Filed 10-16-07; 8:45 am]

BILLING CODE 4310-MR-P